DEPARTMENT OF COMMERCE

National Oceanic and Atmospheric Administration

RIN 0648-XW08

Marine Mammals; File No. 14245

AGENCY: National Marine Fisheries Service (NMFS), National Oceanic and Atmospheric Administration (NOAA), Commerce.

ACTION: Notice; receipt of application.

SUMMARY: Notice is hereby given that National Marine Fisheries Service, National Marine Mammal Laboratory (NMML), Alaska Fisheries Science Center, (Dr. John Bengtson, Responsible Party), 7600 Sand Point Way, NE, Seattle, Washington 98115-6349, has applied in due form for a permit to conduct scientific research in the Pacific, Southern, Atlantic, and Arctic Oceans on 33 cetacean species, including endangered blue (Balaenoptera musculus), sei (B. borealis), fin (B. physalus), sperm (Physeter macrocephalus), North Pacific right (Eubalaena japonica), bowhead (Balaena mysticetus), humpback (Megaptera novaeangliae), Southern Resident killer (Orcinus orca), and Cook Inlet beluga (Delphinapterus leucas) whales.

DATES: Written, telefaxed, or e-mail comments must be received on or before May 27, 2010.

ADDRESSES: The application and related documents are available for review by selecting “Records Open for Public Comment” from the Features box on the Applications and Permits for Protected Species (APPS) home page, https://apps.nmfs.noaa.gov, and then selecting File No. 14245 from the list of available applications.

These documents are also available upon written request or by appointment in the following offices: See SUPPLEMENTARY INFORMATION.

Written comments on this application should be submitted to the Chief, Permits, Conservation and Education Division, at the address listed below. Comments may also be submitted by facsimile to (301)713-0376, or by email to NMFS.Pr1Comments@noaa.gov. Please include File No. 14245 in the subject line of the email comment.

Those individuals requesting a public hearing should submit a written request to the Chief, Permits, Conservation and Education Division at the address listed below. The request should set forth the specific reasons why a hearing on this application would be appropriate.

FOR FURTHER INFORMATION CONTACT: Amy Hapeman or Carrie Hubard, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The NMML requests a five-year permit to conduct research on marine mammals in the Pacific, Southern, Atlantic, and Arctic Oceans to monitor cetaceans for scientific and management purposes. NMML would conduct ongoing projects designed to collect multi-year data to evaluate trends, abundance and distribution of whales and dolphins over long periods of time. Research activities would include aerial and vessel surveys, biopsy sampling, tagging, captures and a suite of sampling procedures associated with captures. Aerial and vessel surveys would be conducted for abundance estimation and distribution using line transect survey methods, photo-identification surveys, feeding studies, and searching for target species for feeding, biopsy and tagging studies. Eight pinniped species, including endangered Steller sea lions (Eumetopias jubatus), could be incidentally harassed during aerial surveys below 1,000 ft. Biopsy sampling would be conducted in conjunction with photo-identification surveys and tagging projects and during dedicated biopsy projects. Individuals may sampled up to four times annually for studies on distribution and prey choices. Transmitters would be attached using various methods to investigate cetacean movements and habitat use. Beluga whales, Dall's porpoises (Phocoenoides dalli), and harbor porpoises (Phocoena phocoena) would be captured for health assessments, attachment of satellite and/or VHF telemetry tags, and released. Over the life of the permit, capture activities may result in the unintentional deaths of four beluga whales from each non-listed stock and four animals from each species of porpoise. Capture research would be suspended and reviewed if four beluga whales, all stocks combined, die in a single year. NMFS is not permitting capture activities or mortality of endangered Cook Inlet beluga whales at this time, but is analyzing the impacts of these activities under the National Environmental Policy Act and the ESA in the event that these activities are considered in the future. The NMML also requests the salvage and import/export of cetacean parts, specimens, and biological samples collected during these projects.

Concurrent with the publication of this notice in the Federal Register, NMFS is forwarding copies of this application to the Marine Mammal Commission and its Committee of Scientific Advisors.

Documents may be reviewed in the following locations:

Permits, Conservation and Education Division, Office of Protected Resources, NMFS, 1315 East-West Highway, Room 13705, Silver Spring, MD 20910; phone (301)713-2289; fax (301)713-0376;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Pacific Islands Region, NMFS, 1601 Kapiolani Blvd., Rm 1110, Honolulu, HI 96814-4700; phone (808)944-2200; fax (808)973-2941;

Northeast Region, NMFS, 55 Great Republic Drive, Gloucester, MA 01930; phone (978)281-9328; fax (978) 281-9394; and

Southeast Region, NMFS, 263 13th Avenue South, Saint Petersburg, FL 33701; phone (727)824-5312; fax (727)824-5309.

Dated: April 21, 2010.
P. Michael Payne,
Chief, Permits, Conservation and Education Division, Office of Protected Resources, National Marine Fisheries Service.

[FR Doc. 2010-9731 Filed 4-26-10; 8:45 am]

BILLING CODE 3510-22-S